DEPARTMENT OF HOUSING AND URBAN DEVELOPMENT

[Docket No. FR-5907-N-52]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AGRICULTURE: Ms. Debra Kerr, Department of Agriculture, OPPM, Property Management Division, Agriculture South Building, 300 7th Street SW., Washington, DC 20024, (202)-720-8873; AIR FORCE: Mr. Robert E. Moriarty, P.E., AFCEC/CI, 2261 Hughes Avenue, Ste. 155, JBSA Lackland TX 78236-9853, (315)-225-7384; GSA: Mr. Flavio Peres, General Services Administration, Office of Real Property Utilization and Disposal, 1800 F Street NW., Room 7040, Washington, DC 20405, (202)-501-0084; NAVY: Ms. Nikki Hunt, Department of the Navy, Asset Management Division, Naval Facilities Engineering Command, Washington Navy Yard, 1330 Patterson Ave. SW., Suite 1000, Washington, DC 20374; (202)-685-9426 (These are not toll-free numbers).

Dated: December 15, 2016.
Brian P. Fitzmaurice,
Director, Division of Community Assistance Office of Special Needs Assistance Programs.

TITLE V, FEDERAL SURPLUS PROPERTY PROGRAM FEDERAL REGISTER REPORT FOR 12/23/2016

Suitable/Available Properties

Building

Michigan

Raco Work Center

9200 South Ranger Road

Brimley MI 49715

Landholding Agency: Agriculture

Property Number: 15201640015

Status: Underutilized

Comments: Off-site removal only; 81+ yrs. old; 442 sq. ft.; equipment/material storage; roof needs replaced; lead based paint; no future agency need; contact Agriculture for more information.

Raco Work Center

9200 South Ranger Road

Brimley MI 49715

Landholding Agency: Agriculture

Property Number: 15201640016

Status: Underutilized

Comments: Off-site removal only; 82+ yrs. old; 528 sq. ft.; equipment/material storage; roof needs replaced; lead based paint; no future agency need; contact Agriculture for more information.

Moran Work Center

1790 W. Adolfus Street

Moran MI 49760

Landholding Agency: Agriculture

Property Number: 15201640017

Status: Underutilized

Comments: Off-site removal only; 45+ yrs. old; 85 sq. ft.; tire storage; building needs replacement; no future agency need; contact Agriculture for more information.

Moran Work Center

1790 W. Adolfus Street

Moran MI 49760

Landholding Agency: Agriculture

Property Number: 15201640018

Status: Underutilized

Directions: Off-site removal only; 80+ yrs.; 2,240 sq. ft.; removal extremely difficult; no future agency need; office/storage; poor condition; lead base paint; roof needs to be replaced;

Comments: Not ADA complaint; contact Agriculture for more information.

Moran Work Center

1790 W. Adolfus Street

Moran MI 49760

Landholding Agency: Agriculture

Property Number: 15201640019

Status: Underutilized

Comments: Off-site removal only; 68+ yrs. old; 1,160 sq. ft.; office/storage; poor condition; lead based paint; roof needs to replaced; no future agency need; contact Agriculture for more information.

Moran Work Center

1790 W. Adolfus Street

Moran MI 49760

Landholding Agency: Agriculture

Property Number: 15201640020

Status: Underutilized

Directions: Off-site removal only; 80+ yrs. old; 300 sq. ft.; garage/fuel storage; no future agency need; poor condition;

Comments: Roof needs to be replaced; lead base paint; not ADA complaint; contact Agriculture for more information.

Raco Work Center

Raco Fire Cache

Brimley MI 49715

Landholding Agency: Agriculture

Property Number: 15201640025

Status: Underutilized

Comments: Off-site removal only; 698 sq. ft.; no future agency need; rehab needed; lead present; contact Agriculture for more information.

North Carolina

U.S. Army Reserve Center

1228 Carroll Street

Durham NC 27707

Landholding Agency: GSA

Property Number: 54201640006

Status: Excess

GSA Number: 4-D-NC-0832-AA

Directions: Disposal Agency: GSA; Landholding Agency: COE

Comments: 58+ yrs. old; 15,000 sq. ft.; training & education; 30+ mos. vacant; sits on 5.45 acres of land; asbestos & lead present; use restrictions may apply; contact GSA for more information.

South Carolina

Orangeburg Memorial USARC

287 John C. Calhoun Drive

Orangeburg SC 29115

Landholding Agency: GSA

Property Number: 54201640007

Status: Excess

GSA Number: 4-D-SC-0638AA

Directions: Disposal Agency: GSA; Landholding Agency: Army 11,367 sf., masonry bldg.; 3,018 sf., masonry bldg., 1,500 sf., & 1,550 sf. workshop bldg., 240 sf. shed

Comments: 57+ yrs. old; office/storage; sq. ft. listed above; vacant 26+ mos., lead base paint & asbestos present; sits on 2.62 acres of land; contact GSA for more information.

Washington

White Pass Work Center

31381 Hwy. 12 located at MP 17

from 410/12 junction

Naches WA 98937

Landholding Agency: Agriculture

Property Number: 15201640021

Status: Unutilized

Directions: 0767200 1152(1110.005511; 1058 (1106.005511); 1151 (1109.005511); 1051 (1103.005511); 1053 (1105.005511); 1050 (1102.005511)

Comments: Off-site removal only; 57-81+ yrs. old; 1,000-3,444 sf.; residential; removal extremely difficult; vacant 12 mos., no future agency need; appt. needed; contact Agriculture for more information.

Massachusetts

John A. Volpe National Transp.

Systems Center (Volpe Center)

55 Broadway

Cambridge MA

Landholding Agency: GSA

Property Number: 54201640008

Status: Excess

GSA Number: MA-0933-AA

Directions: Disposal Agency: GSA; Landholding Agency: DOT; Bldg. 1(211,654 sf.); bldg. 2 (21,970 sq.); bldg. 3 (67,977 sf.); bldg. 4 (46,899 sf.); 5 (13,856 sf.); bldg. 6 (12,934 sf.)

56+ yrs. old; sf. listed above; property well maintained; sits on 14 acres of land; property unavailable due to an expressed federal need

Comments: Contact GSA for more information.

Alaska

Eielson Education Center

Eielson Air Force Base

Eielson AFB AK 99702

Landholding Agency: Air Force

Property Number: 18201640045

Status: Unutilized

Comments: Public access denied and no alternative method to gain access without compromising national security.

Reasons: Secured Area

California

Naval Air Facility Substation

Naval Air Weapons Station

China Lake CA 93555

Landholding Agency: Navy

Property Number: 77201640009

Status: Underutilized

Directions: (RPUID:153148)

Comments: Public access denied and no alternative method to gain access without compromising national security.

Reasons: Secured Area

North Carolina

OLF NAS Oceana (Parcel 013)

NAS Oceana

Oceana NC

Landholding Agency: GSA

Property Number: 54201640009

Status: Surplus

GSA Number: 4-D-NC-0831-AG

Directions: Landholding Agency: Navy; Disposal Agency: GSA

Comments: Friable asbestos; Documented deficiencies: abandoned building; partially collapsing; collapsed ceiling; clear threat to physical safety

Reasons: Extensive deterioration; Contamination

Washington

Lake Wenatchee Ranger Station

Compound

17420 N. Shore Drive

Leavenworth WA 98826

Landholding Agency: Agriculture

Property Number: 15201640022

Status: Excess

Directions: 0767200 1203 (1058.005511); 2071 (1077.005511); 2270 (1078.005511); 2274 (1067.005511); 2277 (1075.005511); 2372 (48216010700); 2671 (1084.005511)

Comments: Property located within floodway which has not been correct or contained.

Reasons: Floodway

Airport Rec Storage #5282

Chiwawa Loop Rd

Leavenworth WA 98826

Landholding Agency: Agriculture

Property Number: 15201640024

Status: Excess

Directions: (2189.005511) 0767200

Comments: Property located within floodway which has not been correct or contained.

Reasons: Floodway

[FR Doc. 2016-30620 Filed 12-22-16; 8:45 am]

BILLING CODE 4210-67-P